DEPARTMENT OF DEFENSE

Office of the Secretary

Department of Defense Board of Actuaries; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Department of Defense Board of Actuaries will take place.

DATES: Open Board meeting from 10:00 a.m. to 1:00 p.m. on Friday, June 26, 2020.

ADDRESSES: This meeting will be held virtually. For information regarding how to access the meeting, please contact Kathleen Ludwig, (703) 653-4758 or Kathleen.A.Ludwig.civ@mail.mil after June 12, 2020.

FOR FURTHER INFORMATION CONTACT: Inger Pettygrove, (703) 225-8803 (Voice), (571) 372-1975 (Facsimile), inger.m.pettygrove.civ@mail.mil (Email). Mailing address is Defense Human Resources Activity, DoD Office of the Actuary, 4800 Mark Center Drive, STE 03E25, Alexandria, VA 22350-8000. Website: http://actuary.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for the Board to review DoD actuarial methods and assumptions to be used in the valuations of the Education Benefits Fund, the Military Retirement Fund, and the Voluntary Separation Incentive Fund, in accordance with the provisions of Section 183, Section 2006, Chapter 74 (10 U.S.C. 1464 et seq.), and 10 U.S.C. 1175.

Agenda

Military Retirement Fund/VSI Fund

1. Recent and Proposed Legislation

2. Briefing on Investment Experience

3. September 30, 2019, Valuation of the Military Retirement Fund *

4. Proposed Methods and Assumptions for September 30, 2020, Valuation of the Military Retirement Fund *

5. Proposed Methods and Assumptions for September 30, 2019, VSI Fund Valuation *

Education Benefits Fund

1. Fund Overview

2. Briefing on Investment Experience

3. September 30, 2019, Valuation Proposed Economic Assumptions *

4. September 30, 2019, Valuation Proposed Methods and Assumptions—Reserve Programs *

5. September 30, 2019, Valuation Proposed Methods and Assumptions—Active Duty Programs *

6. Developments in Education Benefits

* Board approval required

Meeting Accessibility: Pursuant to 5 U.S.C. 552b and 41 CFR 102-3.140 through 102-3.165, this meeting is open to the public.

Written Statements: Persons desiring to attend the DoD Board of Actuaries meeting or make an oral presentation or submit a written statement for consideration at the meeting must notify Kathleen Ludwig at (703) 653-4758, or Kathleen.A.Ludwig.civ@mail.mil, by June 12, 2020.

Dated: June 2, 2020.
Aaron T. Siegel,
Alternate OSD Federal Register Liaison Officer, Department of Defense.

[FR Doc. 2020-12292 Filed 6-5-20; 8:45 am]

BILLING CODE 5001-06-P